DEPARTMENT OF VETERANS AFFAIRS

[OMB Control No. 2900-New (10-0505)]

Proposed Information Collection (Health Resource Center Medical Center Payment Form) Activity: Comment Request

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden and includes the actual data collection instrument.

DATES: Comments must be submitted on or before August 9, 2010.

ADDRESSES: Submit written comments on the collection of information through http://www.Regulations.gov or to VA's OMB Desk Officer, OMB Human Resources and Housing Branch, New Executive Office Building, Room 10235, Washington, DC 20503 (202) 395-7316. Please refer to “OMB Control No. 2900-New (10-0505).”

FOR FURTHER INFORMATION CONTACT: Denise McLamb, Enterprise Records Service (005R1B), Department of Veterans Affairs, 810 Vermont Avenue, NW., Washington, DC 20420, (202) 461-7485, fax (202) 273-0443 or e-mail denise.mclamb@va.gov. Please refer to “OMB Control No. 2900-New (10-0505).”

Title: Health Resource Center Medical Center Payment Form, VA Form 10-0505.

OMB Control Number: 2900-New (10-0505).

Type of Review: Existing collection in used without an OMB control number.

Abstract: Data collected on VA Form 10-0505 will be used to allow claimants with medical care copayment debts to pay online with a credit card or Automated Clearing House transaction.

An agency may not conduct or sponsor, and a person is not required to respond to a collection of information unless it displays a currently valid OMB control number. The Federal Register Notice with a 60-day comment period soliciting comments on this collection of information was published on April 28, 2010, at page 22438.

Affected Public: Individuals or households.

Estimated Total Annual Burden: 48,000.

Estimated Average Burden per Respondent: 4 minutes.

Frequency of Response: On occasion.

Estimated Number of Respondents: 60,000.

Estimated Number of Responses: 720,000.

Dated: July 6, 2010.
By direction of the Secretary.
Denise McLamb,
Program Analyst, Enterprise Records Service.

[FR Doc. 2010-16783 Filed 7-8-10; 8:45 am]

BILLING CODE 8320-01-P